DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: Multiplier Surveys—NEW

While all SAMHSA programming is intended to support the SAMHSA vision of a life in the community for everyone, and its strategic goals of accountability, capacity, and effectiveness, there has been little systematic investigation of the long-range impact of different categories of discretionary programs. The Multiplier Surveys will inform SAMHSA policy and budget development by determining which types of investments are most appropriate for achieving different policy objectives, including sustainability of the program or its intended outcomes after Federal funding ends. It also seeks to determine which program types or factors are best at achieving certain objectives after the conclusion of Federal funding, such as capacity improvement, system change, sustainability and influence on other programs. Findings will be used to make recommendations to SAMHSA management to better inform policy and budget development and to determine which types of investments are most appropriate for achieving different policy objectives.

To achieve the goals of the Multiplier Surveys four programs have been chosen from each of SAMHSA's three Centers. Four Project Directors from each of the 12 programs (48 respondents in all), whose Federal funding ended no later than September 30, 2008 will be interviewed by telephone to determine how the project was sustained after Federal funding ended and what factors contributed to its sustainability.

In addition, all grantees from each of the 12 selected programs meeting inclusion criteria will be invited via e-mail to complete a short on-line survey about their project and how/if it was sustained after Federal funding ended. A 20 percent response rate or about 100 respondents to the on-line survey is expected.

The estimated response burden is as follows:

Information source | Number of respondents | Responses per respondent | Total responses | Hours per response | Total hours
Project Director | 48 | 1 | 48 | 1.25 | 60
Web-based Survey | 100 | 1 | 100 | .75 | 75
Total | 148 |  | 148 |  | 135

Written comments and recommendations concerning the proposed information collection should be sent by September 16, 2010 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-5806.

Dated: August 10, 2010.
Elaine Parry,
Director, Office of Program Services.

[FR Doc. 2010-20261 Filed 8-16-10; 8:45 am]

BILLING CODE 4162-20-P